DEPARTMENT OF STATE

[Public Notice 5811]

Notice of Public Meeting on FY 2008 Refugee Admissions Program

There will be a meeting on the President's FY 2008 Refugee Admissions Program on Wednesday, June 6, 2007 from 2 p.m. to 4 p.m. The meeting will be held at the Refugee Processing Center, 1401 Wilson Boulevard, Suite 700, Arlington, Virginia. The meeting's purpose is to hear the views of attendees on the appropriate size and scope of the FY 2008 Refugee Admissions Program.

Seating is limited. Persons wishing to attend this meeting must notify the Bureau of Population, Refugees, and Migration at telephone (202) 663-1006 by 5 p.m. on Wednesday, May 30, 2007, to arrange for admission. Persons wishing to present oral comments, or to submit written comments for consideration, must provide them in writing by 5 p.m. on Wednesday, May 30, 2007. All comments should either be e-mailed to spruellda@state.gov or faxed to (202) 663-1364.

Any questions about the public meeting should be directed to Delicia Spruell, PRM/Admissions Program Officer at (202) 663-1006. Information about the Refugee Admissions Program may be found at http://www.state.gov/g/prm/

Dated: May 17, 2007.
Richard L. Greene,
Acting Assistant Secretary, Department of State.

[FR Doc. E7-9924 Filed 5-22-07; 8:45 am]

BILLING CODE 4710-33-P